NUCLEAR REGULATORY COMMISSION

[NRC-2011-0179; Docket Nos. 50-498 and 50-499]

STP Nuclear Operating Company, South Texas Project, Units 1 and 2; Notice of Withdrawal of Application for Amendment to Facility Operating License

The U.S. Nuclear Regulatory Commission (the Commission or NRC) has granted the request of STP Nuclear Operating Company (the licensee) to withdraw its application dated November 22, 2010, for a proposed amendment to Facility Operating License Nos. NPF-76 and NPF-80 for the South Texas Project (STP), Units 1 and 2, located in Matagorda County, Texas.

The proposed amendment would have revised the application of Risk-Managed Technical Specifications to Technical Specification 3.7.7, “Control Room Makeup and Cleanup Filtration System.” The purpose of the change was to correct a misapplication of the Configuration Risk Management Program that is currently allowed by the Technical Specifications.

The Commission had previously issued a Notice of Consideration of Issuance of Amendment published in the Federal Register on April 5, 2011 (76 FR 18803). However, by letter dated July 11, 2011, the licensee withdrew the proposed change.

For further details with respect to this action, see the application for amendment dated November 22, 2010, and the licensee's letter dated July 11, 2011, which withdrew the application for license amendment. Documents may be examined, and/or copied for a fee, at the NRC's Public Document Room (PDR), located at One White Flint North, Public File Area O1-F21, 11555 Rockville Pike (first floor), Rockville, Maryland 20852. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 4th day of August 2011.
For the Nuclear Regulatory Commission.
Balwant K. Singal,
Senior Project Manager, Plant Licensing Branch IV, Division of Operating Reactor Licensing, Office of Nuclear Reactor Regulation.

[FR Doc. 2011-20515 Filed 8-11-11; 8:45 am]

BILLING CODE 7590-01-P